ENVIRONMENTAL PROTECTION AGENCY

[ER-FRL-9015-1]

Environmental Impact Statements; Notice of Availability

Responsible Agency: Office of Federal Activities, General Information (202) 564-7146 or http://www.epa.gov/compliance/nepa/.

Weekly receipt of Environmental Impact Statements

Filed 05/12/2014 Through 05/16/2014

Pursuant to 40 CFR 1506.9.

Notice: Section 309(a) of the Clean Air Act requires that EPA make public its comments on EISs issued by other Federal agencies. EPA's comment letters on EISs are available at: http://www.epa.gov/compliance/nepa/eisdata.html.

EIS No. 20140150, Final EIS, NMFS, AK, Steller Sea Lion Protection Measures for Groundfish Fisheries in the Bering Sea and Aleutian Islands Management Area, Review Period Ends: 06/23/2014, Contact: Gretchen Harrington, 907-586-7228.

EIS No. 20140151, Draft EIS, USFWS, VA, Chincoteague and Wallops Island National Wildlife Refuges Draft Comprehensive Conservation Plan, Comment Period Ends: 07/15/2014, Contact: Thomas Bonetti 413-253-8307.

EIS No. 20140152, Final EIS, FERC, ME, Downeast Liquefied Natural Gas (LNG) Project, Review Period Ends: 06/23/2014, Contact: Shannon Crosley 202-502-8853.

EIS No. 20140153, Draft EIS, NPS, NC, Cape Lookout National Seashore Off-Road Vehicle Management Plan, Comment Period Ends: 07/21/2014, Contact: Michael B. Edwards 303-969-2694.

AMENDED NOTICES

EIS No. 20140147, Draft EIS, USFS, CA, Rim Fire Recovery, Comment Period Ends: 06/16/2014, Contact: Maria Benech 209-532-3671, Revision to FR Notice Published 05/16/2014; Correction to reduce comment period from 06/30/2014 to 06/16/2014 reflecting the President's Council on Environmental Quality (CEQ) alternative arrangement granted in accordance with 40 CFR 1506.11 on December 9, 2013. Among these alternative arrangements, CEQ specifically approved shortening the public comment for this DEIS from 45 to 30 days.

Dated: May 20, 2014.
Cliff Rader,
Director, NEPA Compliance Division, Office of Federal Activities.

[FR Doc. 2014-12020 Filed 5-22-14; 8:45 am]

BILLING CODE 6560-50-U